DEPARTMENT OF THE INTERIOR

Fish and Wildlife Service

[FWS-R8-ES-2016-N028; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before March 28, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-157221

Applicant: UC Berkeley, Berkeley, California

The applicant requests a permit renewal to take (capture, measure, handle, and release) the giant kangaroo rat (Dipodomys ingens) in conjunction with surveys and research in the Carrizo Plain National Monument, San Luis Obispo County, California, for the purpose of enhancing the species' survival.

Permit No. TE-843381

Applicant: California Department of Parks and Recreation, Mendocino, California

The applicant requests a permit renewal to take (harass/harm while conducting habitat restoration activities) the Behren's silverspot butterfly (Speyeria zerene behrensii); and take (harass by survey, and harass/harm while conducting habitat restoration activities) the Point Arena mountain beaver (Aplodontia rufa nigra) in conjunction with survey and restoration activities in California State lands within Mendocino and Sonoma Counties for the purpose of enhancing the species' survival.

Permit No. TE-23162B

Applicant: Eric L. Herman, Cochise, Arizona

The applicant requests a permit amendment to take (harass by survey and conduct nest monitoring) the southwestern willow flycatcher (Empidonax traillii extimus) in conjunction with survey activities throughout the range of the species for the purpose of enhancing the species' survival.

Permit No. TE-86356B

Applicant: SeaWorld San Diego, San Diego, California

The applicant requests a new permit to take (perform rescue operations, capture, handle, collect, transport, rehabilitate, mark/tag, return to wild, display for educational purposes, perform veterinarian care, and euthanize) the green sea turtle (Chelonia mydas), leatherback sea turtle (Dermochelys coriacea), loggerhead sea turtle (North Pacific Ocean Distinct Population Segment (DPS)) (Caretta caretta), Olive Ridley sea turtle (Lepidochelys olivacea), and Hawksbill sea turtle (Eretmochelys imbricata) in conjunction with stranded sea turtle operations, research, and enhancement of wild populations throughout the range of the species in California, Oregon, and Washington, for the purpose of enhancing the species' survival.

Permit No. TE-837760

Applicant: Kendall H. Osborne, Riverside, California

The applicant requests a permit amendment to take (harass by survey, capture, mark, and perform telemetry) the Casey's June beetle (Dinacoma caseyi); and take (harass by survey, captive rear, and handle throughout the lifecycle) the Laguna Mountains skipper (Pyrgus ruralis lagunae) in conjunction with survey activities throughout the range of the species for the purpose of enhancing the species' survival.

Permit No. TE-86378B

Applicant: Thomas Gast & Associates Environmental Consultants, Arcata, California

The applicant requests a permit to take (harass by survey, perform biological sampling, capture, handle, and release) the tidewater goby (Eucyclogobius newberryi) in conjunction with survey activities in Humboldt County, California, for the purpose of enhancing the species' survival.

Permit No. TE-018909

Applicant: Kelly M. Rios, Brea, California

The applicant requests a permit renewal to take (harass by pursuit) the Quino checkerspot butterfly (Euphydryas editha quino) and El Segundo blue butterfly (Euphilotes battoides allyni); and take (harass by capture, handle, and release) the San Bernardino Merriam's kangaroo rat (Dipodomys merriami parvus) in conjunction with survey activities throughout the range of the species for the purpose of enhancing the species' survival.

Permit No. TE-045994

Applicant: U.S. Geological Survey, San Diego, California

The applicant requests a permit amendment to take (harass by capture, transport, hold in captivity, propagate, and translocate) the mountain yellow-legged frog (southern California DPS) (Rana muscosa), in conjunction with research activities in Los Angeles, Riverside, and San Bernardino Counties, California, for the purpose of enhancing the species' survival.

Permit No. TE-86461B

Applicant: Cirrus Ecological Solutions, LC, Logan, UT

The applicant requests a permit to take (survey by pursuit) the Mount Charleston blue butterfly (Plebejus shasta charlestonensis) in conjunction with survey activities in Clark County, Nevada, for the purpose of enhancing the species' survival.

Permit No. TE-072650

Applicant: Jennifer C. Michaud-Laired, Sebastopol, California

The applicant requests a permit renewal to take (harass by survey, capture, handle, and release) the California freshwater shrimp (Syncaris pacifica) in Sonoma, Marin, and Napa Counties, California; and take (survey, capture, handle, and release) the California tiger salamander (Santa Barbara County and Sonoma County DPS) (Ambystoma californiense) in Sonoma County, California, in conjunction with surveys and demographic studies for the purpose of enhancing the species' survival.

Permit No. TE-825573

Applicant: Brian L. Cypher, Bakersfield, California

The applicant requests a permit renewal to take (capture, measure, sex, weigh, ear-tag, radio-collar, and collect biological samples) the San Joaquin kit fox (Vulpes macrotis mutica); take (capture, handle, mark, passive integrated transponder (PIT) tag, attach/remove radio transmitters, take biological samples, hold in captivity, and release) the blunt-nosed leopard lizard (Gambelia silus), Fresno kangaroo rat (Dipodomys nitratoides exilis), giant kangaroo rat (Dipodomys ingens), and Tipton kangaroo rat (Dipodomys nitratoides nitratoides); take (capture, handle, mark, take biological samples, and release) the Buena Vista Lake shrew (Sorex ornatus relictus); and remove/reduce to possession Opuntia basilaris var. treleasei (O. treleasei) (Bakersfield cactus) from Federal lands in conjunction with surveys and research throughout the range of the species for the purpose of enhancing the species' survival.

Permit No. TE-48210A

Applicant: Area West Environmental, Inc., Orangevale, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander ((central DPS, Santa Barbara County DPS, and Sonoma County DPS) (Ambystoma californiense)) in conjunction with surveys throughout the range of the species in California for the purpose of enhancing the species' survival.

Permit No. TE-56889A

Applicant: Melissa Odell, Oakhurst, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (harass by survey, capture, handle, and release) the California tiger salamander ((central DPS, Santa Barbara County DPS, and Sonoma County DPS) (Ambystoma californiense)) in conjunction with surveys throughout the range of the species in California for the purpose of enhancing the species' survival.

Permit No. TE-36109B

Applicant: Lenny Grimaldo, San Francisco, California

The applicant requests a permit amendment to take (capture, handle, collect, and release) the delta smelt (Hypomesus transpacificus) in conjunction with research activities in the San Francisco Bay Estuary in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2016-04016 Filed 2-24-16; 8:45 am]

BILLING CODE 4333-15-P